DEPARTMENT OF STATE

[Public Notice: 11404]

60-Day Notice of Proposed Information Collection: MyTravelGov

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 3, 2022.

ADDRESSES: You may submit comments by any of the following methods:

• Web: Persons with access to the internet may comment on this notice by going to regulations.gov. You can search for the document by entering “Docket Number: DOS-2021-0033” in the search field, clicking the “Comment Now” button, and completing the comment form.

• Email: PublicCommentsEX@state.gov.

• Regular Mail: Send written comments to: CA/EX Special Assistant, U.S. Department of State, Bureau of Consular Affairs, Office of the Executive Director, SA-17, 7th Floor, Washington, DC 20522-1707.

You must include the DS form number (if applicable), information collection title, and the OMB control number in any correspondence.

SUPPLEMENTARY INFORMATION: • Title of Information Collection: MyTravelGov.

• OMB Control Number: None.

• Type of Request: New Collection.

• Originating Office: Department of State, Bureau of Consular Affairs, Office of Public and Congressional Affairs (CA/P).

• Form Number: No form.

• Respondents: Individuals.

• Estimated Number of Respondents: 4,128,741.

• Estimated Number of Responses: 4,128,741.

• Average Time per Response: 5 minutes.

• Total Estimated Burden Time: 344,062 hours.

• Frequency: On Occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this notice are public record. Before including any detailed personal information, you should be aware that your comments as submitted, including your personal information, will be available for public review.

Abstract of Proposed Collection

MyTravelGov is an electronic account creation and validation portal. U.S. citizens interested in submitting electronic applications for consular benefits vice submission of a paper application will need to create a unique account through MyTravelGov in order to ensure secure electronic transmission of personally identifiable information to the Department. The information collected will also be used by servers to validate subsequent logons to the account or attempts to reset the account password to ensure the security and integrity of accounts.

Methodology

Information is collected when an individual logs on to the MyTravelGov web portal and elects to create an account.

Kevin E. Bryant,
Deputy Director, Office of Directives Management, Department of State.

[FR Doc. 2021-23726 Filed 10-29-21; 8:45 am]

BILLING CODE 4710-06-P